DEPARTMENT OF COMMERCE

National Oceanic and Atmospheric Administration

[I.D. 071400A]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting which is open to the public.

DATES: The GMT working meeting will be begin Monday, August 14, 2000 at 1 p.m. and may go into the evening until business for the day is completed. The meeting will reconvene from 8 a.m. to 5 p.m. Tuesday, August 15 through Friday, August 18.

ADDRESSES: The meetings will be held at the Pacific Fishery Management Council office, Conference Room, 2130 SW Fifth Avenue, Suite 224, Portland, OR; telephone: 503-326-6352.

Council address: Pacific Fishery Management Council, 2130 SW Fifth Avenue, Suite 224, Portland, OR 97201.

FOR FURTHER INFORMATION CONTACT: Jim Glock, Groundfish Fishery Management Coordinator; telephone: (503) 326-6352.

SUPPLEMENTARY INFORMATION: The primary purpose of the GMT meeting is to review groundfish stock assessment information and prepare recommendations regarding harvest levels and management for 2001. Members of the Council's Scientific and Statistical Committee's Groundfish Subcommittee and the Groundfish Advisory Subpanel will meet jointly with the GMT to discuss the results of recent stock assessments and 2001 harvest levels. The GMT will also prepare reports, recommendations, and analyses in support of various Council decisions through the remainder of the year. The GMT will discuss, receive reports, and/or prepare reports on the following topics during this working session: (1) Stock Assessment Review (STAR) Panel reports; (2) rebuilding plans for canary rockfish, cowcod, lingcod, and Pacific ocean perch, including allocation and bycatch reduction; (3) preliminary acceptable biological catch and optimum yield recommendations for 2001, including management issues; (4) preliminary economic/social analysis of proposed harvest levels and management; (5) Stock Assessment and Fishery Evaluation (SAFE) document preparation; (6) recreational data issues; (7) inseason management; (8) groundfish strategic plan; and (9) permit stacking proposal and analysis.

Although non-emergency issues not contained in this agenda may come before this Council for discussion, those issues may not be the subject of formal Council action during this meeting. Action will be restricted to those issues specifically listed in this notice and any issues arising after publication of this notice that require emergency action under section 305(c) of the Magnuson Stevens Fishery Conservation and Management Act, provided the public has been notified of the Council's intent to take final action to address the emergency.

Special Accommodations

The meeting is physically accessible to people with disabilities. Requests for sign language interpretation or other auxiliary aids should be directed to Ms. Carolyn Porter at (503) 326-6352 at least 5 days prior to the meeting date.

Dated: July 14, 2000.
Richard W. Surdi,
Acting Director, Office of Sustainable Fisheries, National Marine Fisheries Service.

[FR Doc. 00-18256 Filed 7-18-00; 8:45 am]

BILLING CODE 3510-22-F